DEPARTMENT OF HEALTH AND HUMAN SERVICES

Centers for Disease Control and Prevention

Board of Scientific Counselors, National Center for Health Statistics; Notice of Charter Renewal

AGENCY: Centers for Disease Control and Prevention (CDC), Department of Health and Human Services (HHS).

ACTION: Notice of charter renewal.

SUMMARY: The Centers for Disease Control and Prevention (CDC), within the Department of Health and Human Services (HHS), announces the renewal of the charter of the Board of Scientific Counselors, National Center for Health Statistics (BSC, NCHS).

FOR FURTHER INFORMATION CONTACT: Rebecca Hines, M.H.S., Designated Federal Officer, Board of Scientific Counselors, National Center for Health Statistics, Centers for Disease Control and Prevention, 3311 Toledo Road, Mailstop P-08, Hyattsville, Maryland 20782; Telephone: (301) 458-4715; Email: RSHines@cdc.gov.

SUPPLEMENTARY INFORMATION: CDC is providing notice under 5 U.S.C. 1001-1014. This charter has been renewed for a two-year period through January 19, 2025.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-02968 Filed 2-10-23; 8:45 am]

BILLING CODE 4163-18-P